DEPARTMENT OF HOMELAND SECURITY

[Docket Number DHS-2021-0024]

DHS Individual Complaint of Employment Discrimination, DHS Form 3090-1

AGENCY: Department of Homeland Security, (DHS).

ACTION: 60-day notice and request for comments; extension without change of a currently approved collection, 1610-0014.

SUMMARY: The Department of Homeland Security, will submit the following Information Collection Request (ICR) to the Office of Management and Budget (OMB) for review and clearance in accordance with the Paperwork Reduction Act of 1995.

DATES: Comments are encouraged and will be accepted until July 20, 2021. This process is conducted in accordance with 5 CFR 1320.1.

ADDRESSES: You may submit comments, identified by docket number Docket # DHS-2021-0024, at:

○ Federal eRulemaking Portal: http://www.regulations.gov. Please follow the instructions for submitting comments.

Instructions: All submissions received must include the agency name and docket number Docket # DHS-2021-0024. All comments received will be posted without change to http://www.regulations.gov, including any personal information provided.

Docket: For access to the docket to read background documents or comments received, go to http://ww.regulations.gov.

SUPPLEMENTARY INFORMATION: Explain the circumstances that make the collection of information necessary. Identify any legal or administrative requirements that necessitate the collection. Attach a copy of the appropriate section of each statute and regulation mandating or authorizing the collection of information.

It is the policy of the Government of the United States to provide equal opportunity in employment for all persons, to prohibit discrimination in employment because of race, color, religion, sex (including pregnancy, gender identity, and sexual orientation), national origin, age, disability, protected genetic information, or status as a parent, and to promote the full realization of equal employment opportunity (EEO) through a continuing affirmative program in each agency.

Persons who claim to have been subjected to these types of discrimination, or to retaliation for opposing these types of discrimination or for participating in any stage of administrative or judicial proceedings relating to them, can seek a remedy under Title VII of the Civil Rights Act (Title VII) (42 U.S.C. 2000e et seq.) (race, color, religion, sex (including pregnancy, gender identity, and sexual orientation), national origin), the Age Discrimination in Employment Act (ADEA) (29 U.S.C. 621 et seq.) (age), the Equal Pay Act (29 U.S.C. 206(d)) (sex), the Rehabilitation Act (29 U.S.C. 791 et seq.) (disability), the Genetic Information Nondiscrimination Act (GINA) (42 U.S.C. 2000ff et seq.) (genetic information), and Executive Order 11478 (as amended by Executive Orders 13087 and 13152) (sexual orientation or status as a parent).

The Department of Homeland Security (DHS), Office for Civil Rights and Civil Liberties (CRCL) adjudicates discrimination complaints filed by current and former DHS employees, as well as applicants for employment at DHS. The complaint adjudication process for statutory rights is outlined in the Equal Employment Opportunity Commission (EEOC) regulations found at Title 29, Code of Federal Regulations, Part 1614, and EEOC Management Directive 110. For complaints alleging discrimination prohibited by Executive Order 11478, DHS follows procedures similar to the procedures for statutory rights, to the extent permitted by law.

The recordkeeping provisions are designed to ensure that a current employee, former employee, or applicant for employment claiming to be aggrieved, or that person's attorney, provides a signed statement that is sufficiently precise to identify the aggrieved individual and the agency, and to describe generally the action(s) or practice(s) that form the basis of the complaint. The complaint must also contain a telephone number, email address, and address where the complainant or the representative can be contacted. The complaint form is used for original allegations of discrimination and for amendments to pending complaints of discrimination. The form also determines whether the person is willing to participate in mediation or other available types of alternative dispute resolution (ADR) to resolve the complaint; Congress has enacted legislation to encourage the use of ADR in the federal sector, and the form ensures that such an option is considered at this preliminary stage of the EEO complaint process.

A complainant may access the complaint form on the agency website and may submit a completed complaint form electronically to the relevant Component's EEO Office. The complaint form can then be directly uploaded into the DHS EEO Enterprise Complaints Tracking System, also known as “icomplaints.”

The burden of compliance with the information collection requirement does not impact small businesses or other small entities.

The information collection frequency specified in the DHS complaint form is the minimum amount necessary and appropriate for the agency to determine whether the allegations should be accepted for investigation, dismissed due to procedural grounds, or partially accepted and partially dismissed.

Complainants are provided a Privacy Act statement noting the purposes and uses of the information collected. No assurance of confidentiality is provided, because the collection is governed by EEOC Management Directive 110, which provides that “Once the complaint is filed, the complaint file, or part of it, may be shared only with those who are involved and need access to it. This includes the EEO Director, agency EEO officials, and possibly persons whom the aggrieved person has identified as being responsible for the actions that gave rise to the complaint. The complaint file is not a public document to be released outside the EEO complaint process. The identity of the aggrieved person does not remain confidential in the formal complaint process.” EEOC Management Directive 110 provides that aggrieved persons be so informed by an EEO counselor prior to the initiation of a formal complaint.

There is a decrease in burden. The previous approval documentation mistakenly included the burden for Federal Employees. This error has been corrected, resulting in the reporting of a reduced annual burden.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, (DHS).

Title: DHS Individual Complaint of Employment Discrimination, DHS Form 3090-1.

OMB Number: 1610-001.

Frequency: On Occasion.

Affected Public: Private Sector.

Number of Respondents: 136.

Estimated Time per Respondent: 1 Hour.

Total Burden Hours: 68.

Robert Dorr,
Executive Director, Business Management Directorate.

[FR Doc. 2021-10712 Filed 5-20-21; 8:45 am]

BILLING CODE 9112-FL-P